DEPARTMENT OF HEALTH AND HUMAN SERVICES

Centers for Disease Control and Prevention

[Program Announcement 01173]

Expansion of Mother to Child HIV/AIDS Prevention Activities in the Republic of Kenya; Notice of Availability of Funds; Amendment

A notice announcing the availability of fiscal year (FY) 2001 funds for a cooperative agreement program for expansion of mother to child HIV/AIDS prevention activities in the Republic of Kenya, was published in the Federal Register on July 18, 2001, (Vol. 66, No. 138, Pages 37473-37475). The notice is amended as follows:

On page 37474, Second Column, Under Section F. Submission and Deadline, delete: “On or before August 17, 2001, submit the application to the Grants Management Specialist identified in the Where to Obtain Additional Information of this announcement.” and change to “On or before August 31, 2001, submit the application to the Grants Management Specialist identified in the Where to Obtain Additional Information of this announcement.”

Dated: August 16, 2001.
John L. Williams,
Director, Procurement and Grants Office, Center for Disease Control and Prevention (CDC).

[FR Doc. 01-21131 Filed 8-20-01; 8:45 am]

BILLING CODE 4163-18-P